OFFICE OF THE UNITED STATES TRADE REPRESENTATIVE

Generalized System of Preferences (GSP) Program: Notice Regarding the 2005 and Ongoing Country Practice Reviews

AGENCY: Office of the United States Trade Representative.

ACTION: Notice.

SUMMARY: This notice sets forth the timetable for the hearing and public comments on petitions requesting modifications in the status of certain GSP beneficiary countries.

DATES: The GSP regulations (15 CFR part 2007) provide the schedule of dates for conducting the annual country practice review unless otherwise specified in a Federal Register notice. The current revised schedule follows. Notification of any other changes will be given in the Federal Register.

Notice of Public Hearing

A hearing will be held by the GSP Subcommittee of the TPSC on November 30, 2005, beginning at 10 a.m., in combined Rooms 1 and 2, 1724 F Street NW., Washington, DC. The hearing will be open to the public and a transcript of the hearing will be made available for public inspection or can be purchased from the reporting company. No electronic media coverage will be allowed.

All interested parties wishing to make an oral presentation at the hearing must submit, following the “Requirements for Submissions” below, the name, address, telephone number, and facsimile number and e-mail address, if available, of the witness(es) representing their organization to Marideth Sandler, Executive Director of the GSP Program and Chairman of the GSP Subcommittee of the TPSC by 5 p.m., November 9, 2005. Requests to present oral testimony in connection with the public hearing must be accompanied by a written brief or statement, in English, and also must be received by 5 p.m., November 9, 2005. Oral testimony before the GSP Subcommittee of the TPSC will be limited to five-minute presentations that summarize or supplement information contained in briefs or statements submitted for the record. Post-hearing briefs or statements will be accepted if they conform with the regulations cited below and are submitted, in English, by 5 p.m., December 14, 2005. Parties not wishing to appear at the public hearing may submit post-hearing written briefs or statements, in English, by 5 p.m., December 14, 2005.

Modifications to the list of countries eligible for GSP benefits resulting from the 2005 Annual Review of Country Practice Cases will be announced on or about June 30, 2006, in the Federal Register, and any changes will take effect on the effective date announced.

FOR FURTHER INFORMATION CONTACT: The GSP Subcommittee, Office of the United States Trade Representative, 1724 F Street, NW., Room F-220, Washington, DC 20508. Telephone number is (202) 395-6971; fax number is (202) 395-9481.

SUPPLEMENTARY INFORMATION: The GSP statute, Title V of the Trade Act of 1974 (19 U.S.C. 2461 et seq.) provides duty-free treatment to designated eligible articles that are imported from designated beneficiary developing countries. USTR has received a number of petitions requesting that certain practices in certain beneficiary developing countries be reviewed to determine whether such countries are in compliance with the eligibility criteria set forth in sections 502(b) and 502(c) of the Trade Act (19 U.S.C. 2462(a), 2462(b), and 2462(c)).

Petitions Accepted for Review Regarding Country Practices

Pursuant to 15 CFR 2007.0(b), the GSP Subcommittee of the Trade Policy Staff Committee (TPSC) has recommended, and the TPSC has accepted, certain country practice petitions (see Annex A) to be included in the 2005 Annual Review. Acceptance of a petition for review is not indicative of the ultimate disposition of the petition. Acceptance indicates only that the listed petitions warrant further consideration.

Opportunities for Public Comment

The GSP Subcommittee of the TPSC invites comments in support of or in opposition to any petition that have been accepted for review. Submissions should comply with 15 CFR Part 2007, except as modified below.

Requirements for Submission

In order to facilitate prompt processing of submissions, USTR will accept only electronic e-mail submissions in response to this notice. Hand-delivered submissions will not be accepted. These submissions should be single-copy transmissions in English with the total submission not to exceed 20 single-spaced standard letter-size pages. E-mail submissions should use the following subject line: “2005 GSP Annual Country Practice Review” followed by the subject country, case number, and, as appropriate “Written Comments”, “Notice of Intent to Testify”, “Pre-hearing brief”, or “Post-hearing brief”. Documents must be submitted in English in one of the following formats: MSWord (.DOC), WordPerfect (.WPD), or text (.TXT) files. Documents may not be submitted as electronic image files or contain imbedded images (for example, “.JPG”, “.TIF”, “.PDF”, “.BMP”, or “.GIF”). Supporting documentation submitted as spreadsheets are acceptable as Excel files, formatted for printing on 8½ x 11 inch paper. Any data attachments to the submission must be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including the sender's e-mail address and other identifying information. The e-mail address for these submissions is FR0441@USTR.GOV. Documents not submitted in accordance with these instructions might not be considered in this review. If unable to provide submissions by e-mail, please contact the GSP Subcommittee of the TPSC to arrange for an alternative method of transmission.

Public versions of all documents relating to this review will be available for review approximately two weeks after the relevant due date by appointment in the USTR public reading room, 1724 F Street NW., Washington, DC. Appointments may be made from 9:30 a.m. to noon and 1 p.m. to 4 p.m., Monday through Friday, by calling (202) 395-6186.

Marideth J. Sandler,
Executive Director, Generalized System of Preferences (GSP) Program, Office of the U.S. Trade Representative.

BILLING CODE 3901-W5-P

[FR Doc. 05-18228 Filed 9-13-05; 8:45 am]

BILLING CODE 3901-W5-C